DEPARTMENT OF EDUCATION

Office of Safe and Drug-Free Schools; Overview Information; Carol M. White Physical Education Program; Notice Inviting Applications for New Awards for Fiscal Year (FY) 2004

Catalog of Federal Domestic Assistance (CFDA) Number: 84.215F.

DATES: Applications Available: February 4, 2004.

Deadline for Transmittal of Applications: March 22, 2004.

Deadline for Intergovernmental Review: May 19, 2004.

Eligible Applicants: Local educational agencies (LEAs) and community-based organizations (CBOs), including faith-based organizations provided that they meet the applicable statutory and regulatory requirements.

Estimated Available Funds: $69,587,000. Contingent upon the availability of funds, we may make additional awards in FY 2005 from the rank-ordered list of unfunded applicants from this competition.

Estimated Range of Awards: $100,000-$500,000.

Estimated Average Size of Awards: $300,000.

Estimated Number of Awards: 230.

Note: The Department is not bound by any estimates in this notice.

Project Period: Up to 36 months.

Full Text of Announcement

I. Funding Opportunity Description

Purpose of Program: The Carol M. White Physical Education Program provides grants to initiate, expand, or improve physical education programs, including after-school programs, for students in one or more grades from kindergarten through 12th grade in order to help students make progress toward meeting State standards for physical education.

Priorities: In accordance with 34 CFR 75.105(b)(2)(iv), the following priority is from sections 5503 and 5504(a) of the Elementary and Secondary Education Act of 1965, as amended by the No Child Left Behind Act of 2001 (ESEA). (20 U.S.C. 7261b, 7261c)

Absolute Priority: For FY 2004 this priority is an absolute priority. Under 34 CFR 75.105(c)(3) we consider only applications that meet this priority.

This priority is:

The initiation, expansion, or improvement of physical education programs (including after-school programs) in order to make progress toward meeting State standards for physical education for kindergarten through 12th grade students by providing equipment and support to enable students to participate actively in physical education activities and providing funds for staff and teacher training and education.

A physical education program funded under this absolute priority must provide for one or more of the following:

(1) Fitness education and assessment to help students understand, improve, or maintain their physical well-being.

(2) Instruction in a variety of motor skills and physical activities designed to enhance the physical, mental, and social or emotional development of every student.

(3) Development of, and instruction in, cognitive concepts about motor skills and physical fitness that support a lifelong healthy lifestyle.

(4) Opportunities to develop positive social and cooperative skills through physical activity participation.

(5) Instruction in healthy eating habits and good nutrition.

(6) Opportunities for professional development for teachers of physical education to stay abreast of the latest research, issues, and trends in the field of physical education.

Competitive Preference Priority: Within this absolute priority, we give competitive preference to applications that address the following priority. This priority is from 34 CFR 75.225. For FY 2004 this priority is a competitive preference priority. Under 34 CFR 75.105(c)(2)(ii) we award an additional five points to an application depending on how well the application meets this priority.

This priority is for applications from novice applicants.

The term novice applicant means any applicant for a grant from the U.S. Department of Education that:

(1) has never received a grant or subgrant under the program from which it seeks funding;

(2) has never been a member of a group application, submitted in accordance with 34 CFR 75.127-75.129, that received a grant under the program from which it seeks; and

(3) has not had an active discretionary grant from the Federal Government in the five years before the deadline date for applications under this program (Carol M. White Physical Education Program or its predecessor program, the Physical Education for Progress Program). For the purposes of this requirement, a grant is active until the end of the grant's project or funding period, including any extensions of those periods that extend the grantee's authority to obligate funds.

In the case of a group application submitted in accordance with 34 CFR 75.127 through 75.129, to qualify as a novice applicant a group includes only parties that meet the requirements listed above.

Program Authority: 20 U.S.C 7261-7261f.

Applicable Regulations: The Education Department General Administrative Regulations (EDGAR) in 34 CFR parts 74, 75, 77, 79, 80, 81, 82, 84, 85, 86, 97, 98, and 99.

Note: The regulations in 34 CFR, part 86 apply to institutions of higher education only.

II. Award Information

Type of Award: Discretionary grants.

Estimated Available Funds: $69,587,000. Contingent upon the availability of funds, we may make additional awards in FY 2005 from the rank-ordered list of unfunded applicants from this competition.

Estimated Range of Awards: $100,000-$500,000.

Estimated Average Size of Awards: $300,000.

Estimated Number of Awards: 230.

Note: The Department is not bound by any estimates in this notice.

Project Period: Up to 36 months.

III. Eligibility Information

1. Eligible Applicants: LEAs and CBOs, including faith-based organizations, provided that they meet the applicable statutory and regulatory requirements.

2. Cost Sharing or Matching: In accordance with Section 5506 of the ESEA, the Federal share of project costs may not exceed (1) 90 percent of the total cost of a program for the first year for which the program receives assistance; and (2) 75 percent of such costs for the second and each subsequent such year. In accordance with Section 5507 of the ESEA, funds made available under this subpart must be used to supplement, and not supplant, any other Federal, State, or local funds available for physical education activities.

3. Other: Extracurricular activities, such as team sports and Reserve Officers' Training Corps (ROTC) program activities, will not be considered as part of the curriculum of a physical education program eligible for assistance under this program. An application for funds may provide for the participation, in the activities funded, of (a) students enrolled in private nonprofit elementary schools or secondary schools, and their parents and teachers; or (b) home-schooled students, and their parents and teachers.

IV. Application and Submission Information

1. Address to Request Application Package: You may obtain an application via the Internet or from the ED Publication Center (ED Pubs). To obtain a copy via Internet use the following address: http://www.ed.gov/programs/whitephysed/index.html. To obtain a copy from ED Pubs, write or call the following: Education Publications Center, P.O. Box 1398, Jessup, MD 20794-1398. Telephone (toll free): 1-877-433-7827. Fax: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.215F.

Individuals with disabilities may obtain a copy of the application package in an alternative format (e.g., Braille, large print, audiotape, or computer diskette) by contacting the program contact person listed under For Further Information Contact elsewhere in this notice.

2. Content and Form of Application Submission: Each LEA or CBO desiring a grant shall submit an application that contains a plan to initiate, expand, or improve physical education programs in order to make progress toward meeting State standards for physical education. Additional requirements concerning the content of an application, together with the forms you must submit, are in the application package for this competition.

3. Submission Dates and Times:

Applications Available: February 4, 2004.

Deadline for Transmittal of Applications: March 22, 2004.

The dates and times for the transmittal of applications by mail or by hand (including a courier service or commercial carrier) are in the application package for this competition. The application package also specifies the hours of operation of the e-Application Web site.

We do not consider an application that does not comply with the deadline requirements.

Deadline for Intergovernmental Review: May 19, 2004.

4. Intergovernmental Review: This competition is subject to Executive Order 12372 and the regulations in 34 CFR part 79. Information about Intergovernmental Review of Federal Programs under Executive Order 12372 is in the application package for this competition.

5. Funding Restrictions: Not more than 5 percent of grant funds made available to an LEA or CBO for any fiscal year may be used for administrative expenses.

6. Other Submission Requirements: Instructions and requirements for the transmittal of applications by mail or by hand (including a courier service or commercial carrier) are in the application package for this program.

Application Procedures:

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications:

We are continuing to expand our pilot project for electronic submission of applications to include additional formula grant programs and additional discretionary grant competitions. The Carol M. White Physical Education Program, CFDA number 84.215F, is one of the programs included in the pilot project. If you are an applicant under the Carol M. White Physical Education Program grant competition, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs, ED 524), and all necessary assurances and certifications.

• Your e-Application must comply with any page limit requirements described in this notice.

• After you electronically submit your application, you will receive an automatic acknowledgement, which will include a PR/Award number (an identifying number unique to your application).

• Within three working days of submitting your electronic application, fax a signed copy of the Application for Federal Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you elect to participate in the e-Application pilot for the Carol M. White Physical Education Program grant competition and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m. Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under FOR FURTHER INFORMATION CONTACT (See VII. Agency Contact) or (2) the e-GRANTS help desk at 1-888-336-8930.

You may access the electronic grant application for the Carol M. White Physical Education Program grant competition at: http://e-grants.ed.gov.

V. Application Review Information

In addition to the selection criteria contained in the application package, we consider (1) novice status; and (2) equitable distribution among LEAs and CBOs serving urban and rural areas.

VI. Award Administration Information

1. Award Notices: If your application is successful, we notify your U.S. Representative and U.S. Senators and send you a Grant Award Notice (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: There are reporting requirements under this program, including under section 5505(a) of the ESEA and 34 CFR 75.590 and 75.720. In accordance with section 5505(a) of the ESEA, grantees under this program are required to submit an annual report that: (1) Describes the activities conducted during the preceding year; and (2) demonstrates that progress has been made toward meeting State standards for physical education. In accordance with 34 CFR 75.590, grantees must submit an annual performance report that evaluates:

a. Progress in achieving the objectives in the approved application;

b. The effectiveness of the project in meeting the purposes of the program; and

c. The effect of the project on participants served by the project.

The annual performance report must address these reporting requirements and progress toward meeting the following performance measures established by the Secretary for this program.

In addition, at the end of the project period, a final performance and financial report must be submitted as specified by the Secretary in 34 CFR 75.720.

4. Performance Measures: The Secretary has established the following key performance measures for assessing the effectiveness of the Carol M. White Physical Education Program:

a. The number and percentage of students served by the grant actively participating in physical education activities will increase; and

b. The number and percentage of students served by the grant who make progress toward meeting State standards for physical education will increase.

These two measures constitute the Department's indicators of success for this program. Consequently, applicants for a grant under this program are advised to give careful consideration to these two outcomes in conceptualizing the design, implementation, and evaluation of their proposed project. If funded, applicants will be asked to collect and report data in their annual performance reports about progress toward these goals. The Secretary will also use this information to respond to reporting requirements concerning this program established in Section 5421(f) of the ESEA.

VII. Agency Contacts

FOR FURTHER INFORMATION CONTACT: Ann Weinheimer or Pat Rattler, U.S. Department of Education, 400 Maryland Avenue, SW., room 3E-330, Washington, DC 20202-6450. Telephone: (202) 260-5939 or by e-mail: Ann.Weinheimer@ed.gov or Pat.Rattler@ed.gov.

If you use a telecommunications device for the deaf (TDD), you may call the Federal Information Relay Service (FIRS) at 1-800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 30, 2004.
William Modzeleski,
Associate Deputy Under Secretary, Office of Safe and Drug-Free Schools.

[FR Doc. 04-2284 Filed 2-3-04; 8:45 am]

BILLING CODE 4000-01-P